DEPARTMENT OF THE INTERIOR

Bureau of Land Management

[BLM_MT_FRN_MO#4500169625]

Notice of Western Montana Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management (BLM) Western Montana Resource Advisory Council (Council) will meet as follows.

DATES: The Council will hold an in-person meeting on Wednesday, April 26, 2023, in Butte, Montana. The meeting will start at 9 a.m. and conclude at 4 p.m. A virtual participation option will also be available.

ADDRESSES: The meeting will be held at the BLM Western Montana District Office, 101 N Parkmont, Butte, MT 59701. The meeting link, participation instructions, and final agenda will be made available to the public on the Council's web page at https://www.blm.gov/get-involved/resource-advisory-council/near-you/montana-dakotas/western-montana-rac, and through personal contact at least 2 weeks prior to the meeting.

Written comments for the Council may be sent electronically in advance of the scheduled meeting to Public Affairs Specialist David Abrams at dabrams@blm.gov, or in writing to the BLM Western Montana District Office, Attention Public Affairs.

FOR FURTHER INFORMATION CONTACT: David Abrams, BLM Western Montana District Office, telephone: (406) 437-2562, email: dabrams@blm.gov. Individuals in the United States who are deaf, deafblind, hard of hearing, or have a speech disability may dial 711 (TTY, TDD, or TeleBraille) to access telecommunications relay services for contacting Mr. Abrams. Individuals outside the United States should use the relay services offered within their country to make international calls to the point-of-contact in the United States.

SUPPLEMENTARY INFORMATION: The Council provides recommendations to the Secretary of the Interior concerning the planning and management of the public land resources located within the BLM's Western Montana District and offers advice on the implementation of the comprehensive, long-range plan for management, use, development, and protection of the public lands within the District. Agenda topics for the upcoming meetings include a discussion of RAC objectives and responsibilities; reports from the managers of the Butte, Dillon, and Missoula BLM Field Offices about activities in their areas; and other resource management issues the Council may raise.

All Council meetings are open to the public and a public comment period will be offered at 3:30 p.m. While the meeting is scheduled from 9 a.m. to 4 p.m., it may end earlier or later depending on the needs of group members. Therefore, members of the public interested in a specific agenda item or discussion should schedule their arrival accordingly. The BLM will provide a virtual participation option via Zoom. A link to the Zoom meeting will be posted on the RAC's web page 2 weeks in advance of the meeting. Individuals who want to participate virtually must register at least 1 week in advance of the meeting to allow the BLM to make appropriate accommodations.

Before including your address, phone number, email address, or other personal identifying information in your comment, you should be aware that your entire comment—including your personal identifying information—may be made publicly available at any time. While you can ask us in your comment to withhold your personal identifying information from public review, we cannot guarantee that we will be able to do so.

Meeting Accessibility/Special Accommodations: Please make requests in advance for sign language interpreter services, assistive listening devices, or other reasonable accommodations. We ask that you contact the person listed in the FOR FURTHER INFORMATION CONTACT section of this notice at least 7 business days prior to the meeting to give the Department of the Interior sufficient time to process your request. All reasonable accommodation requests are managed on a case-by-case basis.

(Authority: 43 CFR 1784.4-2.)

Kathryn A. Stevens,
BLM Western Montana District Manager.

[FR Doc. 2023-07051 Filed 4-4-23; 8:45 am]

BILLING CODE 4331-20-P